DEPARTMENT OF COMMERCE

National Oceanic and Atmospheric Administration

50 CFR Part 622

[Docket No. 230914-0219; RTID 0648-XD744]

Fisheries of the Caribbean, Gulf of Mexico, and South Atlantic; 2024 Recreational Accountability Measure and Closure for Gag in the South Atlantic

AGENCY: National Marine Fisheries Service (NMFS), National Oceanic and Atmospheric Administration (NOAA), Commerce.

ACTION: Temporary rule; closure.

SUMMARY: NMFS implements an accountability measure for the recreational harvest of gag in South Atlantic Federal waters. NMFS projects that recreational landings of gag will reach the recreational annual catch limit (ACL) for the 2024 fishing year by June 15, 2024. Accordingly, NMFS announces the closure date for the recreational harvest of gag in South Atlantic Federal waters to protect the gag resource.

DATES: This temporary rule is effective from June 15, 2024, through December 31, 2024.

FOR FURTHER INFORMATION CONTACT: Frank Helies, NMFS Southeast Regional Office, telephone: 727-824-5305, email: frank.helies@noaa.gov.

SUPPLEMENTARY INFORMATION: The snapper-grouper fishery of the South Atlantic includes gag and is managed under the Fishery Management Plan for the Snapper-Grouper Fishery of the South Atlantic Region (FMP). The FMP was prepared by the South Atlantic Fishery Management Council and NMFS, and is implemented by NMFS under the authority of the Magnuson-Stevens Fishery Conservation and Management Act (Magnuson-Stevens Act) by regulations at 50 CFR part 622. All weights in this temporary rule are in gutted weight.

Regulations at 50 CFR 622.193(c)(2) specify the 2024 recreational ACL for gag of 133,075 pounds (60,362 kilograms), and the recreational AMs. One of the recreational AMs state that if recreational landings of gag exceed its ACL, NMFS will reduce the length of the next recreational fishing season to prevent recreational landings from again exceeding the recreational ACL [50 CFR 622.193(c)(2)(ii)]. On October 23, 2023, the effective date of the final rule to implement Amendment 53 to the FMP, NMFS closed the recreational sector for the remainder of the year because recreational landings had exceeded the new 2023 recreational ACL (88 FR 68497, October 4, 2023). Therefore, given the overage of the recreational ACL in 2023, NMFS is reducing the length of the 2024 recreational season to prevent the recreational ACL from being exceeded.

The recreational season for gag will start on May 1, 2024. Data from the NMFS Southeast Fisheries Science Center have informed NMFS' projection that recreational landings will reach the recreational ACL for 2024 after June 14. Therefore, NMFS announces that the recreational season for gag in South Atlantic Federal waters will be closed on June 15, 2024, and continue through December 31, 2024. During the recreational closure, the bag and possession limits for gag in or from South Atlantic Federal waters are zero. The next recreational fishing season for gag begins on May 1, 2025.

Classification

NMFS issues this action pursuant to section 305(d) of the Magnuson-Stevens Act. This action is required by 50 CFR 622.193(c)(2)(ii), which was issued pursuant to section 304(b) of the Magnuson-Stevens Act, and is exempt from review under Executive Order 12866.

Pursuant to 5 U.S.C. 553(b)(B), there is good cause to waive prior notice and an opportunity for public comment on this action, as notice and comment are unnecessary and contrary to the public interest. Such procedures are unnecessary because the rule that established the recreational AMs for gag has already been subject to notice and comment, and all that remains is to notify the public of the end date of the recreational season. Prior notice and opportunity for public comment on this action is contrary to the public interest because of the need to protect the South Atlantic gag resource. Additionally, providing as much advance notice to the public of this shortened fishing season and closure allows recreational fishermen, including charter vessel and headboat businesses, to prepare for the change to the recreational season for gag and to schedule or reschedule their trips.

Authority: 16 U.S.C. 1801 et seq.

Dated: March 14, 2024.
Everett Wayne Baxter,
Acting Director, Office of Sustainable Fisheries, National Marine Fisheries Service.

[FR Doc. 2024-05766 Filed 3-18-24; 8:45 am]

BILLING CODE 3510-22-P